DEPARTMENT OF AGRICULTURE

Forest Service

Notice of New Fee Sites; Federal Lands Recreation Enhancement Act (Title VIII, Pub. L. 108-447)

AGENCY: Stanislaus National Forest, USDA Forest Service.

ACTION: Notice of new fee sites.

SUMMARY: The Stanislaus National Forest is proposing to charge new fees at five existing campgrounds. Fees are assessed based on the level of amenities and services provided, cost of operation and maintenance, market assessment, and public comment. The fees listed are only proposed and will be determined upon further analysis and public comment. Funds from fees would be used for the continued operation and maintenance and improvement of these recreation sites. New fees are proposed at Pacific Valley ($10), Union ($8), Utica ($8), Lumsden ($8), and South Fork ($8) Campgrounds. Improvements have been made at many of these campgrounds, or are planned, including installing new fire rings, picnic tables, accessible trails, and new toilets. These actions address sanitation and safety concerns, and improve deteriorating resource conditions and recreation experiences. A market analysis has been completed and indicated that the proposed fees are reasonable and typical of similar sites in the local area.

DATES: The proposed new fees may be implemented after August 2009.

ADDRESSES: Forest Supervisor, Stanislaus National Forest, 19777 Greenley Road, Sonora, CA 95370.

FOR FURTHER INFORMATION CONTACT: Brian Kermeen, Recreation Fee Coordinator, 209-532-3671 x316

SUPPLEMENTARY INFORMATION: The Federal Recreation Lands Enhancement Act (Title VII, Pub.L. 108-447) directed the Secretary of Agriculture to publish a six month advance notice in the Federal Register whenever new recreation fee areas are established. Once public involvement is complete the proposed new campground fees will be reviewed by a Recreation Resource Advisory Committee prior to a final decision and implementation.

Dated: February 19, 2009.
Susan Skalski,
Stanislaus National Forest Supervisor.

[FR Doc. E9-5642 Filed 3-17-09; 8:45 am]

BILLING CODE 3410-11-M